DEPARTMENT OF DEFENSE

Office of Secretary of Defense

[DoD-2007-OS-0034]

Privacy Act of 1974; System of Records

AGENCY: Defense Intelligence Agency, DoD.

ACTION: Notice to add a system of records.

SUMMARY: The Defense Intelligence Agency is proposing to add a system of records to its existing inventory of records systems subject to the Privacy Act of 1974 (5 U.S.C. 552a), as amended.

DATES: The proposed action will be effective on May 11, 2007, unless comments are received that would result in a contrary determination.

ADDRESSES: Freedom of Information Office, Defense Intelligence Agency (DAN-1A), 200 MacDill Boulevard, Washington, DC 20340-5100.

FOR FURTHER INFORMATION CONTACT: Ms. Theresa Lowery at (202) 231-1193.

SUPPLEMENTARY INFORMATION: The Defense Intelligence Agency systems of records notices subject to the Privacy Act of 1974 (5 U.S.C. 552a), as amended, have been published in the Federal Register and are available from the address above.

The proposed system report, as required by 5 U.S.C. 552a of the Privacy Act of 1974, as amended, was submitted on April 2, 2007, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

L.M. Bynum
Alternative OSD Federal Register Liaison Officer, Department of Defense, Alternate OSD Federal Register Liaison Officer, DoD.

LDIA 06-0002

System name:

Department of Defense Intelligence Information Systems Access, Authorization, and Control Records.

System location:

Defense Intelligence Agency, 200 Madill Boulevard, Washington, DC 20340-0001.

Western Regional Service Center—Colorado Springs, CO 80914-3808.

European Regional Service Center—Stuggart, Germany/Molesworth, UK.

Northeast Regional Service Center—Washington, DC 20340-3342.

Southeastern Regional Service Center—Tampa, FL 33621-5101.

Pacific Regional Service Center—Honolulu, HI 96861-4031.

Categories of individuals covered by the system:

Department of Defense Intelligence Information Systems users who hold a current clearance in the Defense Intelligence Agency (DIA) approved Security Files Database and have a record in the Department of Defense Intelligence Information Systems Full Service Directory (FSD).

Categories of records in the system:

Individual's full name, Social Security Number (SSN), citizenship papers, employee type (civilian, military, or contractor), organization name, and clearance level.

Authority for maintenance of the system:

The National Security Act of 1947, as amended; the Intelligence Reform and Terrorism Prevention Act of 2004; 5 U.S.C. 301, Departmental Regulations; E.O. 12333, United States Intelligence Activities, as amended; and E.O. 9397 (SSN).

Purpose(s):

To control and track access to Defense Intelligence Agency's networks, computer systems, and databases. The records may also be used by law enforcement officials to identify the occurrence of and assist in the prevention of computer misuse and/or crime. Statistical data, with all personal identifiers removed, may be used by management for system efficiency, workload calculation, or reporting purposes.

Routine Uses of records maintained in the system, including categories of users and the purposes of such uses:

In addition to those disclosures generally permitted under 5 U.S.C. 552a(b) of the Privacy Act, these records or information contained herein may specifically be disclosed outside the DoD as a routine use pursuant to 5 U.S.C. 552(b)(3) as follows:

The DoD ‘Blanket Routine Uses’ also apply to this system of records.

Policies and practices for storing, retrieving, accessing, retaining, and disposing of records in the system:

Storage:

Electronic storage media.

retrievability:

Name and Social Security Number (SSN).

Safeguards:

Records are maintained in a controlled facility. Physical entry is restricted by the use of locks, guards, and is accessible only to authorized personnel. Access to record is limited to person(s) responsible for servicing the records in the performance of their official duties and who are properly screened and cleared for a need-to-know.

Retention and disposal:

Data will be maintained as long as users maintain an active clearance in a DIA Security System. Once their clearance is no longer active, their entry will be removed automatically.

System manager(s) and address:

System Manager, Research and Engineering Office, Defense Intelligence Agency, 200 Mac Dill Boulevard, Washington, DC 20340-5100.

Notification procedure:

Individuals seeking to determine whether information about themselves is contained in this system of records should address written inquiries to the Defense Intelligence Agency, FOIA Office (DAN-1A), 200 Madill Boulevard, Washington, DC 20340-5100.

Requests should contain individual's full name, Social Security Number (SSN), current address, and telephone number.

Record access procedures:

Individuals seeking access to information about themselves contained in this system of records should address written inquiries to the Defense Intelligence Agency, FOIA Office (DAN-1A), 200 Madill Boulevard, Washington, DC 20340-5100.

Requests should contain individual's full name, Social Security Number (SSN), current address, and telephone number.

Contesting record procedures:

DIA's rules for accessing records, for contesting contents and appealing initial agency determinations are published in DIA Regulation 12-12 “Defense Intelligence Agency Privacy Program”; 32 CFR part 319—Defense Intelligence Agency Privacy Program; or may be obtained from the system manager.

Record source categories:

From subject individuals and DIA's security files and Human Resources Management System.

Exemptions claimed for the system:

None.

[FR Doc. 07-1791 Filed 4-10-07; 8:45 am]

BILLING CODE 5001-06-M